DEPARTMENT OF THE INTERIOR

Bureau of Land Management

[LLWO350000.16X.L11100000.PI0000 LXSISGMW0000]

Notice of Cancellation of Withdrawal Application and Withdrawal Proposal and Notice of Termination of Environmental Impact Statement for the Sagebrush Focal Area Withdrawal in Idaho, Montana, Nevada, Oregon, Utah and Wyoming

AGENCY: Bureau of Land Management, Interior.

ACTION: Notice of cancellation.

SUMMARY: The Bureau of Land Management (BLM) has canceled its withdrawal application and the withdrawal proposal relating to approximately 10 million acres of public and National Forest system lands located within Sagebrush Focal Areas (SFAs) in Idaho, Montana, Nevada, Oregon, Utah, and Wyoming. The BLM has determined that the lands are no longer needed in connection with the proposed withdrawal. The BLM has also terminated the preparation of an Environmental Impact Statement evaluating this application and proposal.

DATES: This Notice is applicable on October 11, 2017.

FOR FURTHER INFORMATION CONTACT: Mark A. Mackiewicz, BLM, by telephone at 435-636-3616, mail to 125 South 600 West, Price, UT 84501-2833 or by email at mmackiew@blm.gov. Persons using a telecommunications device for the deaf (TDD) may call the Federal Relay Service (FRS) at 800-877-8339. FRS is available 24 hours a day, 7 days a week, to leave a message or question. You will receive a reply during normal business hours.

SUPPLEMENTARY INFORMATION: A Notice of Proposed Withdrawal was published in the Federal Register on September 24, 2015, (80 FR 57635), as corrected (80 FR 63583), of the Department's proposal to withdraw approximately 10 million acres of public and National Forest System lands in Idaho, Montana, Nevada, Oregon, Utah, and Wyoming from location and entry under the United States mining laws for 20 years, subject to valid existing rights. The September 24, 2015, Notice also served as a Notice of Intent to Prepare an Environmental Impact Statement (EIS), pursuant to the National Environmental Policy Act, 42 U.S.C. 4331, and initiated a public scoping process. The BLM has determined that the lands are no longer needed in connection with the proposed withdrawal. In accordance with 43 CFR 2310.1-4(a), the BLM therefore has canceled the proposed withdrawal and its application in support thereof. Preparation of an EIS is hereby terminated. Pursuant to 43 CFR 2310.2-1(d), the segregative effect for the lands described in 80 FR 57635 as amended by 80 FR 63583 terminated by operation of law on September 24, 2017, and the lands are currently open to location and entry under the United States mining laws, subject to valid existing rights, the provision of existing withdrawals, other segregations of record, and the requirements of applicable law.

Michael D. Nedd,
Acting Director.

[FR Doc. 2017-21963 Filed 10-10-17; 8:45 am]

BILLING CODE 4310-84-P